DEPARTMENT OF HEALTH AND HUMAN SERVICES

Centers for Disease Control and Prevention

[30Day-25-0706]

Agency Forms Undergoing Paperwork Reduction Act Review

In accordance with the Paperwork Reduction Act of 1995, the Centers for Disease Control and Prevention (CDC) has submitted the information collection request titled, “National Program of Cancer Registries Program Evaluation Instrument (NPCR-PEI),” to the Office of Management and Budget (OMB) for review and approval. CDC previously published a “Proposed Data Collection Submitted for Public Comment and Recommendations” notice on October 21, 2024 to obtain comments from the public and affected agencies. CDC did not receive comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

National Program of Cancer Registries Program Evaluation Instrument (NPCR-PEI) (OMB Control No. 0920-0706)—Reinstatement with Change—National Center for Chronic Disease Prevention and Health Promotion (NCCDPHP), Centers for Disease Control and Prevention (CDC).

Background and Brief Description

CDC is responsible for administering and monitoring the National Program of Cancer Registries (NPCR). The NPCR provides technical assistance and funding, and sets program standards to assure that complete local, state, regional, and national cancer incidence data are available for national and state cancer control and prevention activities and health planning activities. The Program Evaluation Instrument (PEI) has been used for 31 years to monitor the performance of NPCR grantees in meeting the required Program Standards. CDC currently supports 50 population-based cancer registries (CCR) in 46 states, two territories, the District of Columbia, and the Pacific Islands. The National Cancer Institute supports the operations of CCRs in the four remaining states. The Program Evaluation Instrument (NCPR-PEI) includes questions about the following categories of registry operations: (1) staffing, (2) legislation, (3) administration, (4) reporting completeness, (5) data exchange, (6) data content and format, (7) data quality assurance, (8) data use, (9) collaborative relationships, (10) advanced activities, and (11) survey feedback. Examples of information that can be obtained from various questions include, but are not limited to: (1) number of filled staff full-time positions by position responsibility; (2) revision to cancer reporting legislation; (3) various data quality control activities; (4) data collection activities as they relate to achieving NPCR program standards for data completeness; and (5) whether registry data is being used for comprehensive cancer control programs, needs assessment/program planning, clinical studies, or incidence and mortality estimates.

The NPCR-PEI is needed to receive, process, evaluate, aggregate, and disseminate NPCR program information. The information is used by CDC and the NPCR-funded registries to monitor progress toward meeting established program standards, goals, and objectives; to evaluate various attributes of the registries funded by NPCR; and to respond to data inquiries made by CDC and other agencies of the federal government.

CDC requests approval for a period of three years to collect information in 2026 and 2028. The current burden estimate is based on the current 50 NPCR awardees. There are no costs to the respondents other than their time. CDC requests OMB approval for an estimated 132 annualized burden hours. There is no cost to respondnets other than their time to participate.

Estimated Annualized Burden Hours
Type of respondents | Form name | Number of respondents | Number of responses per respondent | Average burden per response (in hours)
NPCR Awardees | PEI (Online) | 30 | 1 | 4
NPCR Awardees | PEI (Paper) | 3 | 1 | 4

Jeffrey M. Zirger,
Lead, Information Collection Review Office, Office of Public Health Ethics and Regulations, Office of Science, Centers for Disease Control and Prevention.

[FR Doc. 2025-10617 Filed 6-10-25; 8:45 am]

BILLING CODE 4163-18-P